ENVIRONMENTAL PROTECTION AGENCY

[EPA-HQ-OPP-2009-0879; FRL-9989-05]

Environmental Modeling Public Meeting; Notice of Public Meeting

AGENCY: Environmental Protection Agency (EPA).

ACTION: Notice.

SUMMARY: An Environmental Modeling Public Meeting (EMPM) will be held on Wednesday, March 27, 2019. This Notice announces the new time for the meeting. Location, agenda topics and supplementary information can be found in the original notice published in the Federal Register, of December 28, 2018 (83 FR 67282) (FRL-9987-26). The EMPM provides a public forum for EPA and its stakeholders to discuss current issues related to modeling pesticide fate, transport, exposure, and ecotoxicity for pesticide risk assessments in a regulatory context.

DATES: The meeting will be held on March 27, 2019 from 9:00 a.m. to 4:30 p.m. Requests to participate in the meeting must be received on or before March 11, 2019.

To request accommodation of a disability, please contact the person listed under FOR FURTHER INFORMATON CONTACT, preferably at least 10 days prior to the meeting, to give EPA as much time as possible to process your request.

ADDRESSES: The meeting will be held at the Environmental Protection Agency, Office of Pesticide Programs (OPP), One Potomac Yard (South Building), First Floor Conference Center (S-1200), 2777 S. Crystal Drive, Arlington, VA 22202.

FOR FURTHER INFORMATION CONTACT: Rebecca Lazarus or Andrew Shelby, Environmental Fate and Effects Division (7507P), Office of Pesticide Programs, Environmental Protection Agency, 1200 Pennsylvania Ave. NW, Washington, DC 20460-0001; telephone number: (703) 347-0520 and (703) 347-0119; fax number: (703) 305-0204; email address: lazarus.rebecca@epa.gov and shelby.andrew@epa.gov.

Authority: 7 U.S.C. 136 et seq.

Dated: February 14, 2019,
Marietta Echeverria,
Director, Environmental Fate and Effects Division, Office of Pesticide Programs.

[FR Doc. 2019-03592 Filed 2-27-19; 8:45 am]

BILLING CODE 6560-50-P